SMALL BUSINESS ADMINISTRATION

[Declaration of Disaster #3484]

State of Georgia

Mitchell County and the contiguous counties of Baker, Colquitt, Decatur, Dougherty, Grady, Thomas and Worth in the State of Georgia constitute a disaster area due to damages caused by severe storms and tornadoes that occurred on March 20, 2003. Applications for loans for physical damage as a result of this disaster may be filed until the close of business on May 30, 2003 and for economic injury until the close of business on December 31, 2003 at the address listed below or other locally announced locations: U.S. Small Business Administration, Disaster Area 2 Office, One Baltimore Place, Suite 300, Atlanta, GA 30308.

The interest rates are:

For Physical Damage

Homeowners with credit available elsewhere—5.875%

Homeowners without credit available elsewhere—2.937%

Businesses with credit available elsewhere—6.378%

Businesses and non-profit organizations without credit available elsewhere—3.189%

Others (including non-profit organizations) with credit available elsewhere—5.500%

For Economic Injury

Businesses and small agricultural cooperatives without credit available elsewhere—3.189%

The number assigned to this disaster for physical damage is 348412 and for economic damage is 9U5700.

(Catalog of Federal Domestic Assistance Program Nos. 59002 and 59008)
Dated: March 31, 2003.
Hector V. Barreto,
Administrator.

[FR Doc. 03-8512 Filed 4-7-03; 8:45 am]

BILLING CODE 8025-01-P